DEPARTMENT OF COMMERCE

International Trade Administration

[C-570-085]

Certain Quartz Surface Products From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on certain quartz surface products (quartz surface products) from the People's Republic of China (China) would be likely to lead to continuation or recurrence of countervailable subsidies at the levels as indicated in the “Final Results of Sunset Review” section of this notice.

DATES: Applicable October 9, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On July 11, 2019, Commerce published the Order on quartz surface products from China in the Federal Register.¹ On June 3, 2024, Commerce published the notice of initiation of the first five-year (sunset) review of the Order, pursuant to section 751(c) of the Tariff Act of 1930, as amended (the Act).² On June 18, 2024, Commerce received notices of intent to participate from the Cambria Company LLC, Dal-Tile LLC, and Guidoni USA (collectively, domestic interested parties), within the deadline specified in 19 CFR 351.218(d)(1)(i).³ The domestic interested parties claimed interested party status under section 771(9)(C) of the Act as manufacturers or producers of the domestic like product.⁴

¹ See Certain Quartz Surface Products from the People's Republic of China: Antidumping and Countervailing Duty Orders: Amended Final Affirmative Antidumping Duty Determination and Antidumping Duty Order, 84 FR 33053 (July 11, 2019) (Order).

² See Initiation of Five-Year (Sunset) Reviews, 89 FR 47525 (June 3, 2024) (Initiation Notice).

³ See Domestic Interested Parties' Letter, “Notice of Intent to Participate in Sunset Review,” dated June 18, 2024.

⁴ Id.

On July 3, 2024, Commerce received an adequate substantive response to the Initiation Notice from the domestic interested parties within the 30-day deadline specified in 19 CFR 351.218(d)(3)(i).⁵ Commerce did not receive a response from the Government of China (GOC) or from any other interested party. In accordance with section 751(c)(3)(B) of the Act, because Commerce did not receive a substantive response from the GOC or a respondent party, pursuant to 19 CFR 351.218(e)(1)(ii)(B) and (e)(1)(ii)(C), respectively, we determined that the respondent interested parties did not provide an adequate response to the Initiation Notice. Therefore, on July 23, 2024, Commerce notified the U.S. International Trade Commission that it did not receive an adequate substantive response from respondent interested parties, and that it would conduct an expedited (120-day) sunset review of the Order.⁶

⁵ See Domestic Interested Parties' Letter, “Substantive Response to Notice of Initiation,” dated July 3, 2024.

⁶ See Commerce's Letter, “Sunset Reviews Initiated on June 3, 2024,” dated July 23, 2024.

Scope of the Order

The products covered by the Order are quartz surface products from China. For a complete description of the scope of the Order, see the Issues and Decision Memorandum.⁷

⁷ See Memorandum, “Issues and Decision Memorandum for Final Results of the Expedited First Sunset Review of the Countervailing Duty Order on Certain Quartz Surface Products from the People's Republic of China,” dated concurrently with this notice (Issues and Decision Memorandum).

Analysis of Comments Received

A complete discussion of all issues raised in this sunset review, including the likelihood of continuation or recurrence of subsidization in the event of revocation of the Order and the countervailable subsidy rates likely to prevail if the Order were to be revoked, is provided in the accompanying Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to continuation or recurrence of countervailable subsidies at the following net countervailable subsidy rates:

⁸ Commerce has found the following companies to be cross-owned with Foshan Hero Stone Co., Ltd.: Mingwei Quartz New Environmental Protection Materials Co., Ltd.; and Foshan Quartz Stone Imp & Exp Co., Ltd.

Producer/exporter | Net countervailable subsidy (percent)
Fasa Industrial Corporation Limited | 190.99
Foshan Hero Stone Co., Ltd.⁸ | 190.99
Foshan Nanhai Julan Quartz Co | 190.99
Foshan Yixin Stone Co., Ltd. | 45.32
Qinguan Yuefeng Decoration Material Co | 190.99
All Others | 45.32

Administrative Protective Order

This notice serves as the only reminder to parties subject to administrative protective order (APO) of their responsibility concerning the disposition of proprietary information disclosed under APO in accordance with 19 CFR 351.305, which continues to govern business proprietary information in this segment of the proceeding. Timely written notification of return/destruction of APO materials or conversion to judicial protective order is hereby requested. Failure to comply with the regulations and terms of an APO is a sanctionable violation.

Notification to Interested Parties

Commerce is issuing and publishing these final results and notice in accordance with sections 751(c), 752(b), and 777(i)(1) of the Act.

Dated: October 3, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of the Sunset Review

VIII. Recommendation

[FR Doc. 2024-23332 Filed 10-8-24; 8:45 am]

BILLING CODE 3510-DS-P